DEPARTMENT OF COMMERCE

International Trade Administration

[A-351-849; A-580-890; A-201-848; A-455-805]

Emulsion Styrene-Butadiene Rubber From Brazil, the Republic of Korea, Mexico, and Poland: Final Results of the Expedited First Sunset Reviews of the Antidumping Duty Orders

AGENCY: Enforcement and Compliance, International Trade Administration, Department of Commerce.

SUMMARY: As a result of these expedited sunset reviews, the U.S. Department of Commerce (Commerce) finds that revocation of the antidumping duty (AD) orders on emulsion styrene-butadiene rubber (ESB rubber) from Brazil, the Republic of Korea (Korea), Mexico, and Poland would be likely to lead to the continuation or recurrence of dumping at the levels indicated in the “Final Results of Sunset Review” section of this notice.

DATES: Applicable November 29, 2022.

FOR FURTHER INFORMATION CONTACT: Caroline Carroll or Thomas Martin, AD/CVD Operations, Office IV, Enforcement and Compliance, International Trade Administration, U.S. Department of Commerce, 1401 Constitution Avenue NW, Washington, DC 20230; telephone: (202) 482-4948 and (202) 482-3936, respectively.

SUPPLEMENTARY INFORMATION:

Background

On August 1, 2022, Commerce published the notice of initiation of the first sunset reviews of the Orders,¹ pursuant to section 751(c) of the Tariff Act of 1930, as amended (the Act).² Commerce received a notice of intent to participate from a domestic interested party ³ within the deadline specified in 19 CFR 351.218(d)(1)(i).⁴ The domestic interested party claimed interested party status under section 771(9)(C) of the Act, as a producer of a domestic like product in the United States.

¹ See Emulsion Styrene-Butadiene Rubber from Brazil, the Republic of Korea, Mexico, and Poland: Antidumping Duty Orders, 82 FR 42790 (September 12, 2017) (Orders).

² See Initiation of Five-Year (Sunset) Reviews, 87 FR 46943 (August 1, 2022).

³ The domestic interested party is Lion Elastomers LLC (Lion).

⁴ See Domestic Interested Party's Letter, “Emulsion Styrene-Butadiene Rubber from Brazil, Korea, Mexico, and Poland: Notice of Intent to Participate in Sunset Reviews,” dated August 8, 2022.

Commerce received adequate substantive responses from the domestic interested party within the 30-day deadline specified in 19 CFR 351.218(d)(3)(i).⁵ We did not receive a substantive response from any other interested party in these proceedings.

⁵ See Domestic Interested Party's Letters, “Emulsion Styrene-Butadiene Rubber from Korea: Substantive Response to the Notice of Initiation of Sunset Reviews,” dated August 16, 2022; “Emulsion Styrene-Butadiene Rubber from Poland: Substantive Response to the Notice of Initiation of Sunset Reviews,” dated August 16, 2022; Emulsion Styrene-Butadiene Rubber from Mexico: Substantive Response to the Notice of Initiation of Sunset Reviews,” dated August 16, 2022; “Emulsion Styrene-Butadiene Rubber from Brazil: Substantive Response to the Notice of Initiation of Sunset Reviews,” dated August 16, 2022; (collectively, Substantive Responses).

On September 30, 2022, Commerce notified the U.S. International Trade Commission that it did not receive an adequate substantive response from respondent interested parties.⁶ As a result, pursuant to section 751(c)(3)(B) of the Act and 19 CFR 351.218(e)(1)(ii)(C)(2), Commerce conducted expedited (120-day) sunset reviews of the Orders.

⁶ See Commerce's Letter, “Sunset Reviews Initiated on August 1, 2022,” dated September 30, 2022.

Scope of the Orders

The products covered by the Orders are cold-polymerized emulsion styrene-butadiene rubber. For a complete description of the scope of these Orders, see the Issues and Decision Memorandum.⁷

⁷ See Memorandum, “Issues and Decision Memorandum for the Expedited Sunset Review of the Antidumping Duty Orders on Emulsion Styrene-Butadiene Rubber from Brazil, Mexico, the Republic of Korea, and Poland,” dated concurrently with, and hereby adopted by, this notice (Issues and Decision Memorandum).

Analysis of Comments Received

All issues raised in these sunset reviews are addressed in the Issues and Decision Memorandum, including the likelihood of continuation or recurrence of dumping and the magnitude of the margins of dumping likely to prevail if the Orders were revoked.⁸ The Issues and Decision Memorandum is a public document and is on file electronically via Enforcement and Compliance's Antidumping and Countervailing Duty Centralized Electronic Services System (ACCESS). ACCESS is available to registered users at https://access.trade.gov. In addition, a complete version of the Issues and Decision Memorandum can be accessed directly at https://access.trade.gov/public/FRNoticesListLayout.aspx.

⁸ Id.

Final Results of Sunset Reviews

Pursuant to sections 751(c)(1) and 752(c) of the Act, Commerce determines that revocation of the Orders would be likely to lead to the continuation or recurrence of dumping, and that the magnitude of the margins of dumping likely to prevail would be weighted-average margins up to the following percentages:

Country | Weighted- average dumping margin (percent)
Brazil | 19.61
Korea | 44.30
Mexico | 19.52
Poland | 25.43

Administrative Protective Order (APO)

This notice serves as the only reminder to parties subject to an APO of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

We are issuing and publishing this notice in accordance with sections 751(c), 752(c), and 777(i)(1) of the Act, and 19 CFR 351.221(c)(5)(ii).

Dated: November 22, 2022.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margin of Dumping Likely to Prevail

VII. Final Results of Sunset Reviews

VIII. Recommendation

[FR Doc. 2022-26021 Filed 11-28-22; 8:45 am]

BILLING CODE 3510-DS-P